FEDERAL COMMUNICATIONS COMMISSION

[CC Docket No. 92-237; DA 00-2822]

Next Meeting of the North American Numbering Council

AGENCY: Federal Communications Commission.

ACTION: Notice.

SUMMARY: On December 14, 2000, the Commission released a public notice announcing the January 16 and 17, 2001, meeting and agenda of the North American Numbering Council (NANC). The intended effect of this action is to make the public aware of the NANC's next meeting and its agenda.

FOR FURTHER INFORMATION CONTACT: Cheryl Callahan, Designated Federal Officer (DFO) at (202) 418-2320 or cchallaha@fcc.gov. The address is: Network Services Division, Common Carrier Bureau, Federal Communications Commission, The Portals, 445 12th Street, SW, Suite 6A207, Washington, DC 20554. The fax number is: (202) 418-2345. The TTY number is: (202) 418-0484.

SUPPLEMENTARY INFORMATION: Released: December 14, 2000.

The North American Numbering Council (NANC) has scheduled a meeting to be held Tuesday, January 16, 2001, from 8:30 a.m. until 5:00 p.m., and on Wednesday, January 17, from 8:30 a.m., until 12 noon. The meeting will be held at the Federal Communications Commission, Portals II, 445 12th Street, SW, Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Cheryl Callahan at the address under FOR FURTHER INFORMATION CONTACT, stated above.

Proposed Agenda

1. Approval of November 28-29, 2000, meeting minutes.

2. NRO (Dkt No 99-200) Second Report and Order.

3. North American Numbering Plan Administration (NANPA) Report. 2Q00 Neutrality Audit dated Aug 17, NRUF Update, and Enterprise Services Update.

4. Report of NANPA Oversight Working Group. Status of NANPA Requirements and Status of NANPA Performance Review.

5. Report of Numbering Resource Optimization (NRO) Working Group. Final NRUF Requirements Document, Continuing Review of NANP-E, and Monitoring of State Pooling Trials.

6. Industry Numbering Committee Report. NANP-E Alternatives Presentation.

7. CTIA Presentation on Imminent Exhaust Procedures.

8. Report of Toll Free Access Codes IMG.

9. Report of the Local Number Portability Administration (LNPA) Working Group. Wireless Number Portability Subcommittee.

10. Report of Cost Recovery Working Group. Status of NBANC B&C Technical Requirements.

11. Steering Group Meeting. Table of NANC Projects, The Big Picture (outline), 2H00 NANC Meeting Dates.

12. Steering Group Report

13. Report from NBANC

14. Reseller CIC IMG status report

15. Oversight of LLCs NPAC

16. Meeting Procedures IMG

17. Public participation (5 minutes each, if any)

18. Other Business

Federal Communications Commission.
Diane Griffin Harmon,
Deputy Chief, Network Services Division, Common Carrier Bureau.

[FR Doc. 00-32386 Filed 12-19-00; 8:45 am]

BILLING CODE 6712-01-U